DEPARTMENT OF DEFENSE

Department of the Air Force

Privacy Act of 1974; System of Records

AGENCY: Department of the Air Force, DoD.

ACTION: Notice to amend a system of records.

SUMMARY: The Department of the Air Force is amending a system of records notice in its existing inventory of record systems subject to the Privacy Act of 1974 (5 U.S.C. 552a), as amended.

DATES: This proposed action will be effective without further notice on November 26, 2004, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 696-6280.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: October 20, 2004.
L.M. Bynum,
Alternate OSD Federal Register Liaison Officer, Department of Defense.

F034 AF SVA F

System name:

Automated Air Force Library Information System (June 11, 1997, 62 FR 31793).

Changes:

* * * * *

Authority for maintenance of the system:

Replace ‘Air Force Regulation 215-15, Air Force Library and Information System,’ with ‘Air Force Instruction 34-270, Air Force Library and Information System’.

* * * * *

System manager(s) and address:

Replace entry with ‘Director, Air Force Libraries, Air Force Services Agency, Libraries Branch, 10100 Reunion Place, Suite 502, San Antonio, TX 78216-4138’.

* * * * *

F034 SVA F

System name:

Automated Air Force Library Information System.

System location:

At all Air Force bases, stations, laboratories, and centers operating automated library systems. Official mailing addresses are published as an appendix to the Air Force's compilation of systems of records notice.

Categories of individuals covered by the system:

All military personnel and dependents; civilian personnel (including contractors) and dependents who are authorized to use Air Force libraries.

Categories of records in the system:

Social security number, library card number, name, base and/or home address, privilege code, statistical code, base organizational affiliation code, telephone number(s), expiration date, registration date, issuing library, number of cards issued, service code (if appropriate), and graduate school code (if appropriate) for special borrowers; on-line patron registration which may include at some locations security clearance level/special accesses; need-to-know subject areas, and citizenship.

Authority for maintenance of the system:

10 U.S.C. 8013, Secretary of the Air Force; Air Force Instruction 34-270, Air Force Library and Information System, and E.O. 9397 (SSN).

Purpose(s):

This system is used to track accountability of materials charged via operation of the library's automated circulation control system; to follow up on delinquent borrowers by generation of overdue notices, to clear departing patrons and delete their names from the file, to issue library cards, and to ensure proper control of classified and limited distribution material.

Routine used of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air force's compilation of record system notices apply to this system.

Policies and practices for storing, retrieving, accessing, retaining, and disposing of records in the system:

Storage:

Maintained in computer and computer output products, and on paper application forms.

Retrievability:

Individual's name, Social security Number, and library card number.

Safeguards:

Records are accessed by person(s) responsible for servicing the record system in performance of their official duties and by authorized personnel who are properly screened and cleared for need-to-know. Records are stored in locked rooms and cabinets. Those in computer storage devices are protected by computer system software.

Retention and disposal:

Records are destroyed when expended, when material is returned on consolidation of records, or on other proper settlement of responsibility. Records are destroyed by tearing into pieces, shredding, pulping, macerating or burning. Computer records are destroyed by erasing, deleting or overwriting.

System manager(s) and address:

Director, Air Force Libraries, Air Force Services Agency, Libraries Branch, 10100 Reunion Place, Suite 502, San Antonio, TX 78216-4138.

NOTIFICATION PROCEDURES:

Individuals seeking to determine whether this system of records contains information on them should address inquiries to the Air Force Libraries, Air Force Services Agency, Libraries Branch, 10100 Reunion Place, Suite 502, San Antonio, TX 78216-4138 or to library officials at location of assignment.

RECORD ACCESS PROCEDURES:

Individuals seeking to access records about themselves contained in this system should address requests to the Air Force Libraries, Air Force Services Agency, Libraries Branch, 10100 Reunion Place, Suite 502, San Antonio, TX 78216-4138 or to library officials at location of assignment.

CONTESTING RECORD PROCEDURES:

The Air Force rules for accessing records, and for contesting contents and appealing initial agency determinations are published in Air Force Instruction 33-322; 32 CFR part 806b; or may be obtained from the system manager.

RECORD SOURCE CATEGORIES:

Personal information obtained from the individual.

EXEMPTION CLAIMED FOR THE SYSTEM:

None.

[FR Doc. 04-23886 Filed 10-25-04; 8:45 am]

BILLING CODE 5001-04-M